FEDERAL MEDIATION AND CONCILIATION SERVICE

Proposed Agency Information Collection Activities; Comment Request

AGENCY: Federal Mediation and Conciliation Service (FMCS).

ACTION: Notice of Forms R-22, R-19, and F-7 submitted for revision, extension and review to the Office of Management and Budget.

SUMMARY: This notice announces that three information collection requests contained in the Federal Mediation and Conciliation Service (FMCS) agency forms have come up for renewal. FMCS submitted to the Office of Management and Budget (OMB) a request for review of three FMCS forms: FMCS Arbitrator's Report and Fee Statement (Agency Form R-19), the Arbitrator's Personal Data Questionnaire (Agency Form R-22), and the Notice to Mediation Agencies (Agency Form F-7). The request seeks OMB approval for a three-year expiration date of Forms R-19, R-22 and F-7 until December 2005. FMCS is soliciting comments on specific aspects of the collections as described below.

DATES: Comments must be submitted within 60 days from the date of this publication in the Federal Register.

ADDRESSES: Submit written comments identified by the appropriate agency form number by mail to the Office of Information and Regulatory Affairs, Office of Management and Budget, Attn: Desk Office for the Federal Mediation and Conciliation Service, Room 10235, Washington, DC 20503. Copies of complete agency forms may be obtained from the Office of Arbitration Services, Federal Mediation and Conciliation Service, 2100 K Street, NW., Washington, DC 20427 or by contacting the person whose name appears under the section headed, FOR FURTHER INFORMATION CONTACT.

Comments and may be submitted also by fax at (202) 606-3749 or electronic mail (e-mail) to arbitration@fmcs.gov. All comments and data in electronic form must be identified by the appropriate agency form number. No confidential business information (CBI) should be submitted through e-mail.

Information submitted as a comment concerning this document may be claimed confidential by marking any part or all of the information as “CBI”. Information so marked will not be disclosed but a copy of the comment that does contain CBI must be submitted for inclusion in the public record. FMCS may disclose information not marked confidential publicly without prior notice. All written comments will be available for inspection in Room 704 at the Washington, DC address above from 8:30 am to 4:30 pm, Monday through Friday, excluding legal holidays.

FOR FURTHER INFORMATION CONTACT: Ms. Vella M. Traynham, Director of Arbitration Services, FMCS, 2100 K Street, NW., Washington, DC 20427. Telephone (202) 606-5111; Fax (202) 606-3749.

SUPPLEMENTARY INFORMATION: Copies of each of the agency forms are available from the Office of Arbitration Services and the Notice Processing Unit, by calling, faxing or writing, Ms. Vella M. Traynham at the address above. Please ask for the form by title and agency form number.

1. Information Collection Requests

FMCS is seeking comments on the following Information Collection Requests (ICRs).

Title: Arbitrator's Personal Data Questionnaire; Form R-22; OMB No. 3076-001.

Type of Request: Revision and extension of expiration date of a currently approved collection with change in the substance.

Affected Entities: Parties affected by this information collection are individuals who apply for admission to the FMCS Roster of Arbitrators.

Frequency: Individuals complete this form once, which is at the time of application to the FMCS roster of Arbitrators.

Abstract: Title II of the Labor Management Relations Act of 1947 (Pub. L. 90-101) as amended in 1959 (Pub. L. 86-257) and 1974 (Pub. L. 93-360), states that it is the labor policy of the United States that “the settlement of issues between employers and employees through collective bargaining may be advanced by making available full and adequate governmental facilities for conciliation, mediation, and voluntary arbitration to encourage employers and representatives of their employees to reach and maintain agreements concerning rates of pay, hours, and working conditions, and to make all reasonable efforts to settle their differences by mutual agreement reached through conferences and collective bargaining or by such methods as may be provided for in any applicable agreement for the settlement of disputes.” Under its regulations at 29 CFR part 1404, FMCS has established policies and procedures for its arbitration function dealing with all arbitrators listed on the FMCS Roster or Arbitrators, all applicants for listing on the Roster, and all person or parties seeking to obtain from FMCS either names or panels of names of arbitrators listed on the Roster in connection with disputes which are to be submitted to arbitration or fact-finding. FMCS strives to maintain the highest quality of dispute resolution experts on its roster. To ensure that purpose, it asks all candidates to complete an application form.

The purpose of this collection is to gather information about applicants for inclusion in the FMCS Roster of Arbitrators. This questionnaire is needed in order that FMCS may select highly qualified individuals for the arbitrator roster. The respondents are private citizens who make application for appointment to FMCS Roster. This obligation is pursuant to 29 U.S.C. 171(b), 29 CFR part 1404. This notice is a request to revise the existing form, which is currently approved collection with change in the substance, but not in the method of collection.

Burden Statement: The number of respondents is approximately 250 individuals per year; the approximate number of individuals who request membership on the FMCS Roster. The time required to complete this questionnaire is approximately one hour. Each respondent is required to respond only once per application, and updating the information as necessary.

Title: Arbitrator's Report and Fee Statement. Form R-19; OMB No. 3076-0003, Expiration Date: November 30, 2001.

Type of Request: Revision and extension of expiration date a currently approved collection with change in the substance.

Affected Entities: Individual arbitrators who render decisions under FMCS arbitration policies and procedures.

Abstract: Pursuant to 29 U.S.C. 171(b) and 29 CFR part 1404, FMCS assumes a responsibility to monitor the work of the arbitrators who serve on its roster. This is satisfied by requiring the completion and submission of a Report and Fee Statement, which indicates when the arbitration award was rendered, the file number, the company and union, the issues, whether briefs were filed and transcripts taken, if there were any waivers by parties on the date the award was due, and the fees and days for services as an arbitrator. This information is then contained in the agency's annual report to indicate the types of arbitration issues, the average or median arbitration fees and days spent on cases. This notice request is for a revision of the form that is currently approved for collection; no change in the substance or method of collection is involved.

Frequency: This form is completed each time an arbitrator hears an arbitration case and issues a decision.

Burden Statement: FMCS receives approximately 2500 responses per year. The form is only filled out each time an arbitrator hears a case and the time required is approximately ten minutes. FMCS uses this form to review arbitrator conformance with its fee and expense reporting requirements. This information is then contained in the agency's annual report to indicate the types of arbitration issues, the average or median arbitration fees and days spent on cases.

Title: Notice to Mediation Agencies, FMCS Form F-7, OMB No. 3076-0004, Expiration date: November 31, 1998.

Type of Request: Revision and extension of expiration date of a currently approved collection with no major changes in the substance.

Affected Entities: Parties affected by this information collection are private sector employers and labor unions involved in interstate commerce who file notices for mediation services to the FMCS and state, local and territorial agencies, who receive copies of these notice filed.

Frequency: Individuals complete this form once, which is at the time of an impending expiration of a collective bargaining agreement.

Abstract: Under the National Labor Management Relations Act, 1947, 29 U.S.C. 158(d)(3), Congress listed specific notice provisions creating a duty to bargain collectively so that no party to a collective bargaining agreement could terminate or modify that contract, unless the party wishing to terminate or modify the contract is sent a written notice to the other party, sixty days prior to the expiration date (section 8(d)(1) and offered to meet and confer with the other party for the purpose of negotiating a new or modified contract (section 8(d)(2). Furthermore, the Act requires that the party notify the Federal Mediation and Conciliation Service within thirty days after such notice of the existence of a dispute and simultaneously notify any State or Territory where the dispute occurred (section 8(d)(3). The 1974 amendments to the NLRA, which extended coverage to nonprofit health care institutions, also created a notification procedure in the health care industry requiring parties to notify each other 90 days in advance of termination and 60 days to the mediation service. This amendment also required notification of initial bargaining situations (notification of the existence of a dispute) to the FMCS, within 30 days.

To facilitate handling of more than 18,000 such notices a year, FMCS created a specific information collection form. The purpose of this information collection activity is for FMCS' Notice Processing Unit (NPU) to comply with FMCS' statutory duty to receive these notices, to facilitate assignment of mediators to assist in labor disputes, and to assist the parties in knowing whether or not proper notice was given. The information from these notices is sent electronically to the appropriate field manager who assigns the cases to the mediator so they may contact labor and management quickly, efficiently, and offer their dispute resolution services, where applicable.

Either party to a contract may make a request in writing for a copy of the notice filed with FMCS. These notices are critical to the function of FMCS and fulfill a statutory purpose as well.

The F-7 form was created to establish conformity throughout interstate commerce and to allow FMCS to gather desired information in a uniform manner. The collection of such information, including the name of the employer or employer association, address and phone number, e-mail address, official contact, bargaining unit and establishment size, location of affected establishment and negotiations, industry or type of business, principal product or service, union address, phone number, e-mail address and official contact, contract expiration date or renewal date, whether the notice is on file on behalf of the employer or the union, and whether this is a health care industry notice for initial contracts, is critical for reporting and medication purposes.

Burden Statement: The current annual respondent burden estimate is approximately 18,000 respondents. This one-page form takes about 10 minutes to complete, for a total of 180,000 minutes or 166 annual hours.

II. Request for Comments

FMCS solicits comments to:

(i) Evaluate whether the proposed collection of information is necessary for the proper performance of the functions of the agency, including whether the information will have practical utility.

(ii) Enhance the accuracy of the agency's estimates of the burden of the proposed collection of information.

(iii) Enhance the quality, utility, and clarity of the information to be collected.

(iv) Minimize the burden of the collection of information on those who are to respond, including the use of appropriate automated electronic collection technologies or other forms of information technology, e.g., permitting electronic and fax submission of responses.

III. The Official Record

The official record is the paper electronic record maintained at the address at the beginning of this document. FMCS will transfer all electronically received comments into printed-paper form as they are received.

Dated: May 20, 2002.
C. Richard Barnes,
Director.

[FR Doc. 02-13037 Filed 5-24-02; 8:45 am]

BILLING CODE 6372-01-M